DEPARTMENT OF JUSTICE

[OMB Number 1190-0019]

Agency Information Collection Activities; Proposed eCollection eComments Requested; Revisions of a Currently Approved Collection; Title—Requirement That Movie Theaters Provide Notice as to the Availability of Closed Movie Captioning and Audio Description for Digital Movies

AGENCY: Civil Rights Division, Department of Justice.

ACTION: 30-Day notice.

SUMMARY: The Civil Rights Division, Disability Rights Section (DRS), Department of Justice will be submitting the following information collection request to the Office of Management and Budget (OMB) for review and approval in accordance with the Paperwork Reduction Act of 1995.

DATES: Comments are encouraged and will be accepted for 30 days until December 18, 2025.

FOR FURTHER INFORMATION CONTACT: If you have comments especially on the estimated public burden or associated response time, suggestions, or need a copy of the proposed information collection instrument with instructions or additional information, please contact: Roberta Kirkendall, Special Litigation Counsel, Disability Rights Section, Civil Rights Division, U.S. Department of Justice, by mail at 4CON, 950 Pennsylvania Ave. NW, Washington, DC, 20530; send an email to DRS.PRA@usdoj.gov; or call (800) 514-0301 (voice) or (800) 514-0383 (TTY) (the Division's Information Line). Written comments and/or suggestions can also be sent to the Office of Management and Budget, Office of Information and Regulatory Affairs, Attention Department of Justice Desk Officer, Washington, DC 20503 or sent to OIRA_submissions@omb.eop.gov. Include the title of this proposed collection: “Requirement that Movie Theaters Provide Notice as to the Availability of Closed Movie Captioning and Audio Description for Digital Movies,” in the subject line of all written comments. You may obtain copies of this notice in an alternative format by calling the Americans with Disabilities Act (ADA) Information Line at (800) 514-0301 (voice) or (800) 514-0383 (TTY).

SUPPLEMENTARY INFORMATION: The proposed information collection was previously published in the Federal Register on July 25, 2025, 90 FR 35316, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1190-0019. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revisions of Currently Approved Collection.

2. Title of the Form/Collection: Requirement that Movie Theaters Provide Notice as to the Availability of Closed Movie Captioning and Audio Description for Digital Movies.

3. Agency form number, if any, and the applicable component of the Department of Justice sponsoring the collection: OMB #1190-0019/Roberta Kirkendall.

4. Affected public who will be asked or required to respond, as well as a brief abstract:

Affected Public: Private Sector-for or not for profit institutions.

The Department of Justice's Civil Rights Division, Disability Rights Section (DRS), is seeking to extend its information collection arising from a regulatory provision that requires covered movie theaters to disclose information to the public regarding the availability of closed movie captioning and audio description for movies exhibited in a digital format (digital movies) shown in their auditoriums.

Title III of the Americans with Disabilities Act (ADA), at 42 U.S.C. 12182, prohibits public accommodations from discriminating against individuals with disabilities. The existing ADA title III regulation, at 28 CFR 36.303(a)-(g), requires covered entities to ensure effective communication with individuals with disabilities. The title III regulation clarifies that movie theaters that provide captioning or audio description for digital movies must ensure “that all notices of movie showings and times at the box office and other ticketing locations, on websites and mobile apps, in newspapers, and over the telephone, inform potential patrons of the movies or showings that are available with captioning and audio description.” 28 CFR 36.303(g)(8). This requirement does not apply to any third-party providers of films, unless they are part of or subject to the control of the public accommodation. Id. Movie theaters' disclosure of this information will enable individuals with hearing and vision disabilities to readily find out where and when they can have access to digital movies with these features.

5. Obligation to Respond:

This information collection is required to comply with statutory and regulatory obligations under title III. Under 42 U.S.C. 12182(b)(2)(A)(iii), public accommodations must take steps to ensure that individuals with disabilities are not denied services because of the absence of auxiliary aids and services, unless doing so would result in an undue burden or fundamental alteration. Pursuant to 42 U.S.C. 12186(b), the Attorney General is authorized to issue regulations to carry out title III. The Department's implementing regulation at 28 CFR 36.303(g)(8) requires covered movie theaters to provide information to the public about the availability of closed movie captioning and audio description for digital movies. This public disclosure obligation is the basis for this Information Collection Request (ICR).

6. Total Estimated Number of Respondents:

The Department's initial PRA request for this collection relied on U.S. Census Bureau data from 2012 and estimated that there was a total of 1,876 firms owning one or more movie theaters in the United States that were potentially subject to this disclosure. See 81 FR 37643 (June 10, 2016). The most recent U.S. Census Bureau data, from 2022, estimated that there was a total of 1,813 firms owning one or more movie theaters. See U.S. Census Bureau, 2022 SUSB Annual Data Tables by Establishment Industry, Data by Enterprise Employment Size, U.S., 6-digit NAICS (512131). As the vast majority of U.S. movie theaters now show digital movies, which typically allow for closed captioning and audio description, to the extent that each of these movie theater firms that shows digital movies provides notices of movie showings and times to the public about those films, they must provide information concerning the availability of closed movie captioning and audio description in their communications.

7. Estimated Time per Respondent: 8.7 hours per year.

The Department acknowledges that the amount of time it will take a respondent to comply with this requirement may vary depending on the number of digital movies that the respondent is showing at any given time. Based on information gathered during the initial rulemaking process, the Department estimates that respondents will take an average of up to 10 minutes each week to update existing notices of digital movie showings and times with closed captioning and audio description information. Therefore, the Department estimates that each firm owning one or more theaters offering digital movies with closed captioning or audio description will spend approximately ((10 minutes/week × 52 weeks/year) ÷ 60 minutes/hour) 8.7 hours each year to comply with this requirement.

The Department anticipates that firms owning one or more movie theaters will likely update their existing listings of digital movie showings and times to include information concerning the availability of closed movie captioning and audio description on a regular basis. The Department's research suggests that this information would only need to be updated whenever a new digital movie with these features is added to the schedule. This will vary as some digital movies stay on the schedule for longer periods of time than others, but the Department estimates that respondent firms will update their listings to include this information weekly. In the future, if all movies are distributed with these accessibility features, specific notice on a movie-by-movie basis may no longer be necessary and firms owning movie theaters may only need to advise the public that they provide closed captioning and audio description for all of their digital movies.

8. Frequency:

The Department anticipates that firms owning one or more movie theaters will likely update their existing listings of digital movie showings and times to include information concerning the availability of closed movie captioning and audio description on a regular basis. The Department's research suggests that this information would only need to be updated whenever a new digital movie with these features is added to the schedule. This will vary as some digital movies stay on the schedule for longer periods of time than others, but the Department estimates that respondent firms will update their listings to include this information weekly. In the future, if all movies are distributed with these accessibility features, specific notice on a movie-by-movie basis may no longer be necessary and firms owning movie theaters may only need to advise the public that they provide closed captioning and audio description for all of their digital movies.

9. Total Estimated Annual Time Burden: The estimated public burden associated with this collection is 15712.67 hours. The Department estimates that respondents will take an average of 10 minutes each week to update their existing listings of digital movie showings and times with the required information about closed captions and audio description. If each respondent spends 10 minutes each week to update its notices of digital moving showings and times to include this information, the average movie theater firm will spend 8.7 hours annually ((10 minutes/week × 52 weeks/year) ÷ 60 minutes/hour) complying with this requirement. The Department expects that the annual public burden hours for disclosing this information will total (1,813 respondents × 8.7 hours/year) 15,713 hours.

10. Total Estimated Annual Other Costs Burden: Yearly costs to industry are estimated to be $0, as updates to communications and advertisements listing digital movie showings and times are normal tasks performed by movie theater personnel and any additional work related to this public disclosure requirement is minimal (e.g., adding symbols to indicate the availability of closed movie captioning and audio description next to a digital movie title).

If additional information is required, contact: Darwin Arceo, Department Clearance Officer, Enterprise Portfolio Management Justice Management Division, United States Department of Justice, Two Constitution Square, 145 N Street NE, 4W-218 Washington, DC 20530.

Dated: November 14, 2025.
Darwin Arceo,
Department Clearance Officer for PRA, U.S. Department of Justice.

[FR Doc. 2025-20223 Filed 11-17-25; 8:45 am]

BILLING CODE 4410-13-P